DEPARTMENT OF TRANSPORTATION

Federal Aviation Administration

Land Release for Princeton Airport

AGENCY: Federal Aviation Administration, DOT.

ACTION: Request for public comment.

SUMMARY: The Federal Aviation Administration is requesting public comment on Princeton Airport (39N), Princeton, New Jersey, notice of proposed release from aeronautical use of approximately 7.2 acres of airport property, to allow for non-aeronautical development.

The parcel is located on the southeast corner of Princeton Airport. The tract currently consists of 7.2 acres of land and it is currently vacant. The requested release is for the purpose of permitting the airport owner to sell and convey title of 7.2 Acres for use as a medical office building.

Documents reflecting the Sponsor's request are available, by appointment only, for inspection at the Airport Manager's office and the FAA New York Airport District Office.

DATES: Comments must be received by April 13, 2009.

ADDRESSES: Comments on this application may be mailed or delivered to the FAA at the following address: Steven M. Urlass, Manager, FAA New York Airports District Office, 600 Old Country Road, Suite 446, Garden City, New York 11530. In addition, a copy of any comments submitted to the FAA must be mailed or delivered to Mr. Kenneth Nierenberg, Airport Manager, at the following address: 41 Airpark Road, Princeton, New Jersey 08540.

FOR FURTHER INFORMATION CONTACT: Steven M. Urlass, Manager, New York Airports District Office, 600 Old Country Road, Suite 446, Garden City, New York 11530; telephone (516) 227-3803; FAX (516) 227-3813; e-mail steve.urlass@faa.gov.

SUPPLEMENTARY INFORMATION: Section 125 of the Wendell H. Ford Aviation Investment and Reform Act for the 1st Century (AIR21) requires the FAA to provide an opportunity for public notice and comment before the Secretary may waive a sponsor's Federal obligation to use certain airport land for aeronautical use.

Issued in Garden City, New York on February 9, 2009.
Steven Urlass,
Manager, New York Airports District Office, Eastern Region.

[FR Doc. E9-5395 Filed 3-11-09; 8:45 am]

BILLING CODE 4910-13-P